DEPARTMENT OF TRANSPORTATION

Federal Aviation Administration

14 CFR Part 39

[Docket No. FAA-2020-0909; Project Identifier 2019-SW-118-AD; Amendment 39-21458; AD 2021-05-15]

RIN 2120-AA64

Airworthiness Directives; Airbus Helicopters

AGENCY: Federal Aviation Administration (FAA), Department of Transportation (DOT).

ACTION: Final rule.

SUMMARY: The FAA is adopting a new airworthiness directive (AD) for certain Airbus Helicopters Model AS332C, AS332C1, AS332L, and AS332L1 helicopters. This AD was prompted by a report that the cabin lateral sliding plug door failed its emergency jettisoning test; subsequent investigation revealed that the jettison handle cable interfered with the cable clamps. This AD requires modifying the release system of each cabin lateral sliding plug door, or modifying the design of the jettison system of each cabin lateral sliding plug door, as specified in a European Union Aviation Safety Agency (EASA) AD, which is incorporated by reference. The FAA is issuing this AD to address the unsafe condition on these products.

DATES: This AD is effective May 7, 2021.

The Director of the Federal Register approved the incorporation by reference of a certain publication listed in this AD as of May 7, 2021.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2020-0909.

Examining the AD Docket

You may examine the AD docket on the internet at https://www.regulations.gov by searching for and locating Docket No. FAA-2020-0909; or in person at Docket Operations between 9 a.m. and 5 p.m., Monday through Friday, except Federal holidays. The AD docket contains this final rule, any comments received, and other information. The street address for Docket Operations is U.S. Department of Transportation, Docket Operations, M-30, West Building Ground Floor, Room W12-140, 1200 New Jersey Avenue SE, Washington, DC 20590.

FOR FURTHER INFORMATION CONTACT: Kathleen Arrigotti, Aviation Safety Engineer, Large Aircraft Section, International Validation Branch, FAA, 2200 South 216th St., Des Moines, WA 98198; telephone and fax 206-231-3218; email kathleen.arrigotti@faa.gov.

SUPPLEMENTARY INFORMATION:

Discussion

The EASA, which is the Technical Agent for the Member States of the European Union, has issued EASA AD 2019-0064R1, dated December 19, 2019 (EASA AD 2019-0064R1) (also referred to as the Mandatory Continuing Airworthiness Information, or the MCAI), to correct an unsafe condition for certain Airbus Helicopters Model AS332C, AS332C1, AS332L, and AS332L1 helicopters.

The FAA issued a notice of proposed rulemaking (NPRM) to amend 14 CFR part 39 by adding an AD that would apply to certain Airbus Helicopters Model AS332C, AS332C1, AS332L, and AS332L1 helicopters. The NPRM published in the Federal Register on October 7, 2020 (85 FR 63238). The NPRM was prompted by a report that the cabin lateral sliding plug door failed its emergency jettisoning test; subsequent investigation revealed that the jettison handle cable interfered with the cable clamps. The NPRM proposed to require modifying the release system of each cabin lateral sliding plug door, or modifying the design of the jettison system of each cabin lateral sliding plug door, as specified in EASA AD 2019-0064R1, which is incorporated by reference.

The FAA is issuing this AD to address this condition, which could lead to jamming of the door jettisoning mechanism, preventing the jettisoning of the affected door in an emergency situation, and possibly obstructing occupant evacuation. See the MCAI for additional background information.

Comments

The FAA gave the public the opportunity to participate in developing this final rule. The FAA has considered the comment received. The commenter indicated support for the NPRM.

Conclusion

The FAA reviewed the relevant data, considered the comment received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2019-0064R1 describes, among other things, procedures for modifying the release system of each cabin lateral sliding plug door, or modifying the design of the jettison system of each cabin lateral sliding plug door.

This material is reasonably available because the interested parties have access to it through their normal course of business or by the means identified in the ADDRESSES section.

Differences Between This AD and the MCAI

EASA AD 2019-0064R1 specifies inspections of the jettisoning mechanism of the cabin lateral sliding plug doors and corrective actions. This AD does not include those actions. AD 2019-09-03, Amendment 39-19637 (84 FR 22693, May 20, 2019) (AD 2019-09-03) already requires those actions. The FAA has determined that this AD will only require the modification specified in EASA AD 2019-0064R1, which would then terminate the requirements of AD 2019-09-03.

Costs of Compliance

The FAA estimates that this AD affects 19 helicopters of U.S. registry. The FAA estimates the following costs to comply with this AD:

Estimated Costs for Required Actions
Labor cost | Parts cost | Cost per product | Cost on U.S. operators
Up to 214 work-hours × $85 per hour = Up to $18,190 | $ * | Up to $18,190 | Up to $345,610.
* The FAA has received no definitive data that would enable the agency to provide parts cost estimates for the actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-05-15 Airbus Helicopters: Amendment 39-21458; Docket No. FAA-2020-0909; Project Identifier 2019-SW-118-AD.

(a) Effective Date

This airworthiness directive (AD) is effective May 7, 2021.

(b) Affected ADs

This AD affects AD 2019-09-03, Amendment 39-19637 (84 FR 22693, May 20, 2019) (AD 2019-09-03).

(c) Applicability

This AD applies to Airbus Helicopters Model AS332C, AS332C1, AS332L, and AS332L1 helicopters, certificated in any category, as identified in European Union Aviation Safety Agency (EASA) AD 2019-0064R1, dated December 19, 2019 (EASA AD 2019-0064R1).

(d) Subject

Joint Aircraft System Component (JASC) Code 5200, Doors.

(e) Reason

This AD was prompted by a report that the cabin lateral sliding plug door failed its emergency jettisoning test; subsequent investigation revealed that the jettison handle cable interfered with the cable clamps. The FAA is issuing this AD to address this condition, which could lead to jamming of the door jettisoning mechanism, preventing the jettisoning of the affected door in an emergency situation, and possibly obstructing occupant evacuation.

(f) Compliance

Comply with this AD within the compliance times specified, unless already done.

(g) Requirements

Except as specified in paragraph (h) of this AD: Comply with all required actions and compliance times specified in, and in accordance with, paragraph (3) or (4) of EASA AD 2019-0064R1.

(h) Exceptions to EASA AD 2019-0064R1

(1) Where EASA AD 2019-0064R1 refers to April 10, 2019 (the effective date of EASA AD 2019-0064, dated March 27, 2019), this AD requires using the effective date of this AD.

(2) The “Remarks” section of EASA AD 2019-0064R1 does not apply to this AD.

(3) If the modification specified in paragraph (4) of EASA AD 2019-0064R1 is done, it must be done at the compliance time specified in paragraph (3) of EASA AD 2019-0064R1.

(4) Although the service information referenced in EASA AD 2019-0064R1 specifies to discard or scrap certain parts, this AD does not include that requirement.

(5) Where paragraph (3) of EASA AD 2019-0064R1 specifies to do a modification “in accordance with the instructions of section 3 of the modification ASB” this AD excludes paragraph 3.B.5. of “the modification ASB.”

(6) Where paragraph (4) of EASA AD 2019-0064R1 refers to “Eurocopter AS 322 SB No. 52.00.28,” for this AD use “Eurocopter AS 332 SB No. 52.00.28.”

(i) Terminating Action for AD 2019-09-03

Accomplishing the actions required by this AD terminates all requirements of AD 2019-09-03.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Kathleen Arrigotti, Aviation Safety Engineer, Large Aircraft Section, International Validation Branch, FAA, 2200 South 216th St., Des Moines, WA 98198; telephone and fax 206-231-3218; email kathleen.arrigotti@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0064R1, dated December 19, 2019.

(ii) [Reserved]

(3) For EASA AD 2019-0064R1, contact the EASA, Konrad-Adenauer-Ufer 3, 50668 Cologne, Germany; telephone +49 221 8999 000; email ADs@easa.europa.eu; Internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2020-0909.

(5) You may view this material that is incorporated by reference at the National Archives and Records Administration (NARA). For information on the availability of this material at NARA, email fedreg.legal@nara.gov, or go to https://www.archives.gov/federal-register/cfr/ibr-locations.html.

Issued on February 25, 2021.
Gaetano A. Sciortino,
Deputy Director for Strategic Initiatives, Compliance & Airworthiness Division, Aircraft Certification Service.

[FR Doc. 2021-06780 Filed 4-1-21; 8:45 am]

BILLING CODE 4910-13-P